DEPARTMENT OF COMMERCE

International Trade Administration

[A-580-813]

Stainless Steel Butt-Weld Pipe Fittings From Korea; Notice of Final Results of Antidumping Duty Administrative Review

AGENCY: Import Administration, International Trade Administration, Department of Commerce.

SUMMARY: On March 7, 2005, the Department of Commerce (the Department) published the preliminary results of administrative review of the antidumping order covering stainless steel butt-weld pipe fittings from Korea. See Stainless Steel Butt-Weld Pipe Fittings from Korea; Notice of Preliminary Results of Antidumping Duty Administrative Review, 70 FR 10982 (March 7, 2005) (Preliminary Results). The merchandise covered by this order is stainless steel butt-weld pipe fittings as described in the “Scope of the Order” section of this notice. The period of review (POR) is February 1, 2003, through January 31, 2004. We invited parties to comment on our Preliminary Results. Based on our analysis of the comments received, we have made changes in the margin calculations. Therefore, the final results differ from the preliminary results. The final weighted-average dumping margin for the reviewed firm is listed below in the section entitled “Final Results of the Review.”

EFFECTIVE DATE: July 11, 2005.

FOR FURTHER INFORMATION CONTACT: Michael Heaney, or Robert James at (202) 482-4475, or (202) 482-0649, respectively, AD/CVD Operations, Office 7, Import Administration, International Trade Administration, U.S. Department of Commerce, 14th Street and Constitution Avenue, NW., Washington, DC 20230.

SUPPLEMENTARY INFORMATION:

Background

On March 7, 2005, the Department published the preliminary results of the 2003-2004 antidumping duty administrative review of stainless steel butt-weld pipe fittings from Korea. See Preliminary Results. The review covers Sungkwang Bend Company (SKBC), and the period February 1, 2003, through January 31, 2004. In the Preliminary Results, we invited parties to comment. SKBC submitted a case brief on April 6, 2005. Petitioner submitted no comments, and no party filed rebuttal comments.

Scope of the Order

The products covered by this order are certain welded stainless steel butt-weld pipe fittings (pipe fittings), whether finished or unfinished, under 14 inches in inside diameter.

Pipe fittings are used to connect pipe sections in piping systems where conditions require welded connections. The subject merchandise can be used where one or more of the following conditions is a factor in designing the piping system: (1) Corrosion of the piping system will occur if material other than stainless steel is used; (2) contamination of the material in the system by the system itself must be prevented; (3) high temperatures are present; (4) extreme low temperatures are present; (5) high pressures are contained within the system.

Pipe fittings come in a variety of shapes, and the following five are the most basic: “elbows,” “tees,” “reducers,” “stub ends,” and “caps.” The edges of finished fittings are beveled. Threaded, grooved, and bolted fittings are excluded from this review. The pipe fittings subject to this order are classifiable under subheading 7307.23.00 of the Harmonized Tariff Schedule of the United States (HTSUS). Although the HTSUS subheading is provided for convenience and customs purposes, our written description of the scope of this order is dispositive.

Analysis of Comments Received

All issues raised in the case brief submitted in this administrative review are addressed in the “Issues and Decision Memorandum” (Decision Memorandum) from Barbara E. Tillman, Acting Deputy Assistant Secretary for Import Administration to Joseph A. Spetrini, Acting Assistant Secretary for Import Administration, dated July 5, 2005, which is hereby adopted by this notice. A list of the issues which SKBC has raised and to which we have responded, all of which are in the Decision Memorandum, is attached to this notice as an appendix. Parties can find a complete discussion of all issues raised in this review and the corresponding recommendations in this public memorandum which is on file in room B-099 of the main Department of Commerce building. In addition, a complete version of the Decision Memorandum can be accessed directly on the Internet at http://www.ia.ita.doc.gov. The paper copy and electronic version of the Decision Memorandum are identical in content.

Changes Since the Preliminary Results

Based on our analysis of comments received, we have made changes in the margin calculations. The changes are listed below:

• We have added billing adjustments to the Net U.S. Price.

• We have revised the model-match program to distinguish between fittings with fractional size and wall thickness measurements (e.g., ½ inch or 1½ inches).

• We have revised the model-match program to ensure that U.S. sales are matched to the most contemporaneous home market sale.

• We have removed the deduction for home market inventory carrying costs from our calculation of U.S. price.

All programming changes are discussed in the relevant sections of the Decision Memorandum, accessible in B-099 of the main Department of Commerce building and on the Web at http://www.ia.ita.doc.gov.

Final Results of the Review

We determine the following percentage weighted-average margin exists for the period February 1, 2003 through June 30, 2004:

Manufacturer/exporter | Weighted average margin (percent)
SKBC | 0.81

Liquidation

The Department shall determine, and U.S. Customs and Border Protection (Customs) shall assess, antidumping duties on all appropriate entries. In accordance with 19 CFR 351.212(b)(1), we have calculated exporter/importer-specific assessment rates. To calculate these rates, we divided the total dumping margins for the reviewed sales by the total entered value of those reviewed sales for each importer. The Department will issue appropriate assessment instructions directly to Customs within 15 days of publication of these final results of review. We will direct Customs to assess the appropriate assessment rate against the entered Customs values for the subject merchandise on each of the importer's entries under the relevant order during the POR.

Cash Deposit Requirements

The following cash deposit requirements will be effective upon publication of this notice of final results of administrative review for all shipments of stainless steel butt-weld pipe fittings from Korea entered, or withdrawn from warehouse, for consumption on or after the date of publication, as provided by section 751(a)(1) of the Tariff Act of 1930 as amended (the Act): (1) The cash deposit rate for the reviewed company will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 21.2 percent. This rate is the “All Others” rate from the amended final determination in the LTFV investigation. See Stainless Steel Butt-Weld Pipe Fittings From Korea: Notice of Final Determination of Sales at Less Than Fair Value, 58 FR 11029, (February 23, 1993).

These deposit requirements shall remain in effect until the publication of the final results of the next administrative review.

This notice also serves as a final reminder to importers of their responsibility under 19 CFR 351.402(f) to file a certificate regarding the reimbursement of antidumping or countervailing duties prior to liquidation of the relevant entries during this review period. Failure to comply with this requirement could result in the Secretary's presumption that reimbursement of antidumping or countervailing duties occurred and the subsequent assessment of doubled antidumping duties.

This notice also serves as a reminder to parties subject to administrative protective orders (APO) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing this determination and notice in accordance with sections 751(a)(1) and 777(i) of the Act.

Dated: July 5, 2005.
Barbara E. Tillman,
Acting Assistant Secretary for Import Administration.

Appendix

Comments and Responses

1. Addition of Billing Adjustments to U.S. Price.

2. Revisions to the Model Match Program, Use of the Concordance Submitted by SKBC.

3. Inventory Carrying Costs.

[FR Doc. E5-3655 Filed 7-8-05; 8:45 am]

BILLING CODE 3510-DS-P